DEPARTMENT OF HEALTH AND HUMAN SERVICES

Centers for Disease Control and Prevention

National Institute for Occupational Safety and Health (NIOSH); Request for Nominations To Serve on the World Trade Center Health Program Science/Technical Advisory Committee (WTCHP-STAC)

The Centers for Disease Control and Prevention (CDC) is soliciting nominations for possible membership on the WTCHP-STAC. This committee was established by Public Law 111-347 (The James Zadroga 9/11 Health and Compensation Act of 2010), enacted on January 2, 2011, Section 3302(a). The Advisory Committee is governed by the provisions of Public Law 92-463, the Federal Advisory Committee Act, as amended (5 U.S.C. App.), which sets forth standards for the formation and use of advisory committees in the Executive Branch.

Section 3302(a)(1) of the James Zadroga 9/11 Health and Compensation Act of 2010 (the Act) establishes that the WTCHP-STAC will review scientific and medical evidence and make recommendations to the WTC Program Administrator on additional program eligibility criteria and additional health conditions for program inclusion. The committee will be consulted on other matters as related to and outlined in the Act at the discretion of the WTC Program Administrator. In accordance with Public Law 111-347, Section 3302(a)(2), the WTC Program Administrator will appoint the members of the committee and include at least:

• 4 occupational physicians, at least two of whom have experience treating WTC rescue and recovery workers;

• 1 physician with expertise in pulmonary medicine;

• 2 environmental medicine or environmental health specialists;

• 2 representatives of WTC responders;

• 2 representatives of certified-eligible WTC survivors;

• 1 industrial hygienist;

• 1 toxicologist;

• 1 epidemiologist; and, at least

• 1 mental health professional.

For the mental health professional category, specific expertise is sought in trauma-related psychiatry or psychology and psychiatric epidemiology. Other members may be appointed at the discretion of the WTC Program Administrator.

A WTCHP-STAC member's term appointment may last four years. If a vacancy occurs, the WTC Program Administrator may appoint a new member who represents the same interest as the predecessor. WTCHP-STAC members may be appointed to successive terms. The frequency of committee meetings shall be determined by the WTC Program Administrator based on program needs. Meetings may occur up to four times a year. Members are paid the Special Government Employee rate of $250 per day, and travel costs and per diem are included and based on the Federal Travel Regulations.

Any interested person or organization may self-nominate or nominate one or more qualified persons for membership. Nominations must include the following information:

• The nominee's contact information and current occupation or position;

• The nominee's resume or curriculum vitae, including prior or current membership on other NIOSH, CDC, HHS advisory committees or other relevant organizations, associations, and committees;

• The category of membership (occupational, pulmonary or environmental medicine physician, environmental health specialist, representative of responder or survivor beneficiary group, industrial hygienist, toxicologist, epidemiologist, or mental health) that the candidate is qualified to represent;

• A summary of the background, experience, and qualifications that demonstrates the nominee's suitability for each of the nominated membership categories;

• Articles or other documents the nominee has authored that indicate the nominee's knowledge, and experience in relevant subject categories; and

• A statement that the nominee is aware of the nomination, is willing to regularly attend and participate in WTCHP-STAC meetings, and has no known conflicts of interest that would preclude membership on WTCHP-STAC.

WTCHP-STAC members will be selected upon the basis of their relevant experience and competence in their respective categorical fields. The information received through this nomination process, in addition to other relevant sources of information, will assist the WTC Program Administrator in appointing members to serve on WTCHP-STAC. In selecting members, the WTC Program Administrator will consider individuals nominated in response to this Federal Register notice, as well as other qualified individuals.

NIOSH is committed to bringing greater diversity of thought, perspective and experience to its advisory committees. Nominees from all races, gender, age and persons living with disabilities are encouraged to apply. Nominees must be U.S. citizens.

Candidates invited to serve will be asked to submit the “Confidential Financial Disclosure Form for Special Government Employees Serving on Federal Advisory Committees at the Centers for Disease Control and Prevention.” This form allows CDC to determine whether there is a statutory conflict between that person's public responsibilities as a Special Government Employee and private interests and activities, or the appearance of a lack of impartiality, as defined by Federal regulation. The form may be viewed and downloaded at http://www.usoge.gov/forms/oge450_pdf/oge450_accessible.pdf. This form should not be submitted as part of a nomination.

Nominations should be submitted (postmarked or received) by July 7, 2011.

You may submit nominations for WTCHP-STAC, identified by NIOSH Docket No. NIOSH-229, by any of the following methods:

• Electronic submissions: You may submit nominations, including attachments, electronically to the NIOSH Docket No. NIOSH-229 located at http://www.cdc.gov/niosh/docket/. Follow the instructions for submitting electronic comments. Attachments should be in Microsoft Word, WordPerfect, or Excel; however, Microsoft Word is preferred.

• Regular, Express, or Overnight Mail: Written nominations may be submitted (one original and two copies) to the following address only: NIOSH Docket 229 or Zaida Burgos, Committee Management Specialist, National Institute for Occupational Safety and Health, Centers for Disease Control and Prevention, 1600 Clifton Road, NE., M/S E-20, Atlanta, Georgia 30333. Telephone and facsimile submissions cannot be accepted.

The Director, Management Analysis and Services Office, has been delegated the authority to sign Federal Register notices pertaining to announcements of meetings and other committee management activities for both CDC and the Agency for Toxic Substances and Disease Registry.

Dated: June 16, 2011.
Elaine L. Baker,
Director, Management Analysis and Services Office, Centers for Disease Control and Prevention.

[FR Doc. 2011-15684 Filed 6-22-11; 8:45 am]

BILLING CODE 4163-18-P